DEPARTMENT OF TRANSPORTATION

Federal Aviation Administration

14 CFR Part 39

[Docket No. FAA-2006-23786; Directorate Identifier 2006-CE-11-AD; Amendment 39-14933; AD 2007-04-02]

RIN 2120-AA64

Airworthiness Directives; CTRM Aviation Sdn. Bhd. (Formerly Eagle Aircraft (Malaysia) Sdn. Bhd.) Model Eagle 150B Airplanes

AGENCY: Federal Aviation Administration (FAA), DOT.

ACTION: Final rule.

SUMMARY: The FAA is adopting a new airworthiness directive (AD) to supersede AD 2004-11-04, which applies to all CTRM Aviation Sdn. Bhd. (Formerly Eagle Aircraft (Malaysia) Sdn. Bhd.) Model Eagle 150B airplanes. AD 2004-11-04 currently requires you to inspect certain canard inboard flap hinge support brackets (initially before further flight and repetitively before the first flight of each day) and perform any necessary follow-up action. This AD results from mandatory continuing airworthiness information (MCAI) issued by the airworthiness authority for Malaysia to require the installation of improved design inboard flap hinge brackets as terminating action for the repetitive inspections. Consequently, this AD retains the requirement that you inspect certain canard inboard flap hinge support brackets (initially before further flight and repetitively before the first flight of each day) and then requires that you replace the parts with new design inboard flap hinge brackets as terminating action for the repetitive inspections or if cracks are found. We are issuing this AD to detect and correct cracks in the canard inboard flap hinge support brackets, which could result in loss of retention of controls and consequently, loss of airplane control.

DATES: This AD becomes effective on March 21, 2007.

As of March 21, 2007, the Director of the Federal Register approved the incorporation by reference of Eagle Aircraft Mandatory Service Bulletin SB 1120, Original, Effective Date June 3, 2005.

On June 4, 2004 (69 FR 30189, May 27, 2004), the Director of the Federal Register previously approved the incorporation by reference of Eagle Aircraft Mandatory Service Bulletin SB 1109, Revision Original, Effective Date August 29, 2003.

ADDRESSES: To get the service information identified in this AD, contact CTRM Aviation Sdn. Bhd. (formerly known as Eagle Aircraft (Malaysia) Sdn. Bhd.), Locked Bag 1028, Pejabat Pos Besar Melaka, 75150 Melaka, Malaysia; telephone: 06 317 1007; fax: 06 317 7023.

To view the AD docket, go to the Docket Management Facility; U.S. Department of Transportation, 400 Seventh Street, SW., Nassif Building, Room PL-401, Washington, DC 20590-0001 or on the Internet at http://dms.dot.gov. The docket number is FAA-2006-23786; Directorate Identifier 2006-CE-11-AD.

FOR FURTHER INFORMATION CONTACT: Karl Schletzbaum, Aerospace Engineer, ACE-112, Small Airplane Directorate, 901 Locust, Room 301, Kansas City, Missouri 64106; telephone: 816-329-4146; fax: 816-329-4090.

SUPPLEMENTARY INFORMATION:

Discussion

On July 3, 2006, we issued a proposal to amend part 39 of the Federal Aviation Regulations (14 CFR part 39) to include an AD that would apply to all CTRM Aviation Sdn. Bhd. (Formerly Eagle Aircraft (Malaysia) Sdn. Bhd.) Model Eagle 150B airplanes. This proposal was published in the Federal Register as a notice of proposed rulemaking (NPRM) on July 11, 2006 (71 FR 39020). The NPRM proposed to retain the requirement of AD 2004-11-04 that you inspect certain canard inboard flap hinge support brackets (initially before further flight and repetitively before the first flight of each day) and then replace the parts with new design inboard flap hinge brackets as terminating action for the repetitive inspections or if cracks are found.

Comments

We provided the public the opportunity to participate in developing this AD. The following presents the comment received on the proposal and FAA's response to the comment:

Comment Issue: Service Documents and Parts Manufacturer Approval

Jack Buster of the Modification and Replacement Parts Association (MARPA) requests the following be incorporated into the regulatory action:

1. Service documents deemed essential to the accomplishment of this proposed action be incorporated by reference and published in the Docket Management System (DMS); and

2. The issue of parts manufacturer approval (PMA) be addressed in the proposed action and that all Directorates within the FAA treat the issue the same per Section 1, paragraph (b)(10) of Executive Order 12866.

We agree that the service documents are essential and should be incorporated by reference. However, we do not incorporate by reference any document in a proposed AD action; instead we incorporate by reference the document in the final rule. Since we are issuing the proposal as a final rule AD action, the service information referenced in this action will be incorporated by reference.

We are currently reviewing issues surrounding the posting of service bulletins in the Department of Transportation's DMS as part of the AD docket. Once we have thoroughly examined all aspects of this issue and have made a final determination, we will consider whether our current practice needs to be revised.

On the PMA issue, Mr. Buster's comments are timely in that the FAA is currently reviewing this issue as it applies to all products: Transport airplanes, commuter airplanes, general aviation airplanes, engines and propellers, rotorcraft, and appliances. The FAA acknowledges that there are different ways of addressing this issue to ensure that unsafe PMA parts are identified and addressed. Once we have thoroughly examined all aspects of this issue including input from industry and have made a final determination, we will consider developing a standardized approach and standardized language on how to address PMA parts in airworthiness directives.

We have determined that to delay this AD action would be inappropriate since an unsafe condition exists and that replacement of certain parts must be done to ensure continued safety. Therefore, we have made no change to the AD in this regard.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 13 airplanes in the U.S. registry.

We estimate the following costs to do each inspection:

Labor cost | Parts cost | Total cost per airplane | Total cost on U.S. operators
1 work-hour × $80 = $80 | Not Applicable | $80 | $1,040

We estimate the following costs to do the replacements that would be required as a result of the inspection or the mandatory replacement:

Labor cost | Parts cost | Total cost per airplane | Total cost on U.S. operators
10 work-hours × $80 = $800 | $1,700 | $2,500 | $32,500

Authority for This Rulemaking

Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-23786; Directorate Identifier 2006-CE-11-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) AD 2004-11-04; Amendment 39-13649 (69 FR 30189, May 27, 2004), and adding the following new AD:

2007-04-02 CTRM Aviation Sdn. Bhd. (Formerly Eagle Aircraft (Malaysia) Sdn. Bhd.): Amendment 39-14933; Docket No. FAA-2006-23786; Directorate Identifier 2006-CE-11-AD.

Effective Date

(a) This AD becomes effective on March 21, 2007.

Affected ADs

(b) This AD supersedes AD 2004-11-04; Amendment 39-13649.

Applicability

(c) This AD affects Model Eagle 150B airplanes, all serial numbers, that are certificated in any category.

Unsafe Condition

(d) This AD results from mandatory continuing airworthiness information (MCAI) issued by the airworthiness authority for Malaysia. The actions specified in this AD are intended to detect and correct cracks in the canard inboard flap hinge support brackets, which could result in loss of retention of controls and consequently, loss of airplane control.

Compliance

(e) To address this problem, you must do the following:

Actions | Compliance | Procedures
(1) Inspect the gusset weld area of the canard inboard flap hinge support brackets, part number (P/N) 5731D01-05 and P/N 5731D01-02, for cracked, lifted, or missing paint in the area of the weld or suspected cracks. | Initially inspect before the next flight after June 4, 2004 (the effective date of AD 2004-11-04). Repetitively inspect thereafter before the first flight of each day | Follow Eagle Aircraft Mandatory Service Bulletin SB 1109, Revision Original, Effective Date August 29, 2003.
(2) If cracked, lifted, or missing paint in the area of the weld or suspected cracks are found during any inspection required in paragraph (e)(1) of this AD, inspect the affected bracket more fully as specified in the service bulletin. | Before further flight after any inspection required by paragraph (e)(1) of this AD, where cracked, lifted, or missing paint in the area of the weld or suspected cracks are found | Follow Eagle Aircraft Mandatory Service Bulletin SB 1109, Revision Original, Effective Date August 29, 2003.
(3) Replace any canard inboard flap hinge support brackets, P/N 5731D01-05 and P/N 5731D01-02, with new design inboard flap hinge brackets, P/N 5731D05-01 and P/N 5731D06-01. | Before further flight after any inspection where cracks are found or within 6 months after March 21, 2007 (the effective date of this AD), whichever occurs first. This action terminates the repetitive inspections required in paragraph (e)(1) of this AD | Follow Eagle Aircraft Mandatory Service Bulletin SB 1120, Original, Effective Date June 3, 2005.
(4) Do not install any canard inboard flap hinge support brackets, P/N 5731D01-05 and P/N 5731D01-02 | As of March 21, 2007 (the effective date of this AD) | Not Applicable.

(f) The Australian AD allows an appropriately trained pilot to perform the visual inspections of the canard inboard flap hinge support brackets. Although the Malaysian AD does not specifically state this, it does refer to the Australian AD. Regardless, the Federal Aviation Regulations (14 CFR 43.3) only allow the pilot to perform preventive maintenance as described in 14 CFR part 43, App. A, paragraph (c). These visual inspections are not considered preventive maintenance under 14 CFR part 43, App. A, paragraph (c). Therefore, an appropriately-rated mechanic must perform all actions of this AD.

Special Flight Permit

(g) Special flight permits are not allowed for this AD. Part 39 of the Federal Aviation Regulations (14 CFR part 39) provides that FAA may issue special flight permits for ADs, unless otherwise specified in the individual AD. The FAA has determined that the safety issue is severe enough that failure of the canard inboard flap hinge support brackets must be prevented and cracks in this area must be detected before further operation.

Alternative Methods of Compliance (AMOCs)

(h) The Manager, Standards Staff, FAA, ATTN: Karl Schletzbaum, Aerospace Engineer, FAA, Small Airplane Directorate, 901 Locust, Room 301, Kansas City, Missouri 64106; telephone: (816) 329-4146; fax: (816) 329-4090, has the authority to approve AMOCs for this AD, if requested using the procedures found in 14 CFR 39.19.

(i) AMOCs approved for AD 2004-11-04 are approved for this AD.

Related Information

(j) Malaysian AD No. CAM AD 001-01-2004 R1, dated December 23, 2005; and Australian AD No. CASA AD/X-TS/5, dated August 21, 2003, revised April 2, 2004, also address the subject of this AD.

Material Incorporated by Reference

(k) You must use Eagle Aircraft Mandatory Service Bulletin SB 1120, Original, Effective Date June 3, 2005; and Eagle Aircraft Mandatory Service Bulletin SB 1109, Revision Original, Effective Date August 29, 2003 to do the actions required by this AD, unless the AD specifies otherwise.

(1) The Director of the Federal Register approved the incorporation by reference of Eagle Aircraft Mandatory Service Bulletin SB 1120, Original, Effective Date June 3, 2005, under 5 U.S.C. 552(a) and 1 CFR part 51.

(2) On June 4, 2004 (69 FR 30189, May 27, 2004), the Director of the Federal Register previously approved the incorporation by reference of Eagle Aircraft Mandatory Service Bulletin SB 1109, Revision Original, Effective Date August 29, 2003.

(3) For service information identified in this AD, contact CTRM Aviation Sdn. Bhd. (formerly known as Eagle Aircraft Sdn. Bhd.), Locked Bag 1028, Pejabat Pos Besar Melaka, 75150 Melaka, Malaysia; telephone: 06 317 1007; fax: 06 317 7023.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on February 5, 2007.
David R. Showers,
Acting Manager, Small Airplane Directorate, Aircraft Certification Service.

[FR Doc. E7-2319 Filed 2-13-07; 8:45 am]

BILLING CODE 4910-13-P